DEPARTMENT OF THE INTERIOR

National Park Service

[NPS-WASO-NAGPRA-NPS0027464; PPWOCRADN0-PCU00RP14.R50000]

Notice of Inventory Completion: U.S. Army Garrison, Fort Campbell, Fort Campbell, KY

AGENCY: National Park Service, Interior.

ACTION: Notice.

SUMMARY: The U.S. Army Garrison, Fort Campbell has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the U.S. Army Garrison, Fort Campbell. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the U.S. Army Garrison, Fort Campbell at the address in this notice by May 24, 2019.

ADDRESSES: Ronald Grayson, U.S. Army Garrison, Fort Campbell, Directorate of Public Works, Building 865, 16th Street, Fort Campbell, KY 42223, telephone (270) 412-8174, email ronald.i.grayson.civ@mail.mil.

SUPPLEMENTARY INFORMATION: Notice is here given in accordance with the Native American Graves Protection and Repatriation Act (NAGPRA), 25 U.S.C. 3003, of the completion of an inventory of human remains and associated funerary objects under the control of the U.S. Army Garrison, Fort Campbell, Fort Campbell, KY. The human remains and associated funerary objects were removed from site 15TR0004 in Trigg County, KY, and sites 40MT0004, 40MT0018, 40MT0021, 40MT0022, and an unidentified site (40MT?) in Montgomery County, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the U.S. Army Corps of Engineers, St. Louis District's Mandatory Center of Expertise for the Curation and Management of Archaeological Collections (MCX CMAC) and U.S. Army Garrison, Fort Campbell professional staff in consultation with representatives of the Absentee-Shawnee Tribe of Indians of Oklahoma; Cherokee Nation; Coushatta Tribe of Louisiana; Eastern Band of Cherokee Indians; Eastern Shawnee Tribe of Oklahoma; Kialegee Tribal Town; Poarch Band of Creeks (previously listed as the Poarch Band of Creek Indians of Alabama); Shawnee Tribe; The Chickasaw Nation of Oklahoma; The Muscogee (Creek) Nation; Thlopthlocco Tribal Town; and the United Keetoowah Band of Cherokee Indians in Oklahoma, hereafter referred to as “The Consulted Tribes.”

History and Description of the Remains

In 1930, human remains representing, at minimum, 31 individuals were removed from 15TR0004, the Duncan Site, in Trigg County, KY. Excavations at the cemetery site were conducted by University of Kentucky archeologists William S. Webb and William D. Funkhouser. All the human remains, as well as the associated funerary objects were stored at the University of Kentucky until August 2017, when they were transferred to the Cultural Resource Office of the U.S. Army Garrison, Fort Campbell, the current land owners. In October 2017, the human remains and associated funerary objects were transferred to the MCX CMAC Lab in St. Louis, MO, to be inventoried. The collection was returned to the U.S. Army Garrison, Fort Campbell Cultural Resource Office in June 2018. Individuals from the site include 30 adults of undetermined sex and one child of undetermined sex. No known individuals were identified. The three associated funerary objects are one mortuary pot, one mortuary vessel with handles, and one faunal bone needle.

Between 1965 and 1966, human remains representing, at minimum, three individuals were removed from site 40MT0004 in Montgomery County, TN. Excavations at the site were conducted by E.L. Sheppard, avocational archeologists, and Fort Campbell Pratt Museum curator Glen Koons. All the human remains, as well as the associated funerary objects, were stored at the U.S. Army Garrison, Fort Campbell Pratt Museum. In October 2017, the human remains and associated funerary objects were transferred to the MCX CMAC Lab in St. Louis, MO, to be inventoried. The collection was returned to the U.S. Army Garrison, Fort Campbell Cultural Resource Office in June 2018. Individuals from the site include one adult of undetermined sex and two infants of undetermined sex. No known individuals were identified. The two associated funerary objects are one shell fragment and one faunal bone fragment.

In 1973, human remains representing, at minimum, one individual was removed from site 40MT0018 in Montgomery County, TN. Excavations at the site were conducted by Joe Benthall, Tennessee Division of Archaeology. All the human remains, as well as the associated funerary objects, were stored at the Tennessee Division of Archaeology Collection Facility at Pinson Mounds until 2017, when they were transferred to the U.S. Army Garrison, Fort Campbell Cultural Resource Office. In October 2017, the human remains and associated funerary objects were transferred to the MCX CMAC Lab in St. Louis, MO, to be inventoried. The collection was returned to the U.S. Army Garrison, Fort Campbell Cultural Resource Office in June 2018. Individuals from the site include one adult of undetermined sex. No known individuals were identified. The two associated funerary objects are one ceramic rim sherd and one ceramic body sherd.

In 1963, human remains representing, at minimum, eight individuals were removed from site 40MT0021 in Montgomery County, TN. Excavations at the site were conducted by Fort Campbell Pratt Museum curator Glen Koons. All the human remains, as well as the associated funerary objects, have been stored at the U.S. Army Garrison, Fort Campbell since the excavation, first at the Pratt Museum, and later at the Cultural Resource Office. In October 2017, the human remains and associated funerary objects were transferred to the MCX CMAC Lab in St. Louis, MO, to be inventoried. The collection was returned to the U.S. Army Garrison, Fort Campbell Cultural Resource Office in June 2018. Individuals from the site include four adults of undetermined sex, one subadult of undetermined sex, two children of undetermined sex, and one infant of undetermined sex. No known individuals were identified. The 78 associated funerary objects are two charcoal fragments, 31 effigy bottle fragments, five ceramic body sherds, four faunal bone fragments, 16 lithic flakes, eight shell beads, 10 shells, and two debris bags.

In 1963, human remains representing, at minimum, five individuals were removed from site 40MT0022 in Montgomery County, TN. Excavations at the site were conducted by Fort Campbell Pratt Museum curator Glen Koons. All the human remains, as well as the associated funerary objects, have been stored at the U.S. Army Garrison, Fort Campbell since the excavation, first at the Pratt Museum, and later at the Cultural Resource Office. In October 2017 the human remains and associated funerary objects were transferred to the MCX CMAC Lab in St. Louis, MO, to be inventoried. The collection was returned to the U.S. Army Garrison, Fort Campbell Cultural Resource Office in June 2018. Individuals from the site include two adults of undetermined sex, one child of undetermined sex, and two infants of undetermined sex. No known individuals were identified. The 391 associated funerary objects are one ceramic effigy head, 191 ceramic body sherds, five ceramic rim sherds, one horn-shaped ceramic object, one ceramic effigy bottle fragment, one ceramic owl pendant, three bone (non-human) hair pin fragments, 22 faunal bone fragments, two fossils, one bead, one stone pipe, 155 shell beads, six shell fragments, and one unidentified white object.

In the 1960s, human remains representing, at minimum, five individuals were removed from an unidentified site in Montgomery County, TN. The human remains were reportedly excavated by Fort Campbell Pratt Museum curator Glen Koons. All the human remains, as well as the associated funerary objects, have been stored at the U.S. Army Garrison, Fort Campbell since the excavation, first at the Pratt Museum, and later at the Cultural Resource Office. In October 2017, the human remains and associated funerary objects were transferred to the MCX CMAC Lab in St. Louis, MO, to be inventoried. The collection was returned to the U.S. Army Garrison, Fort Campbell Cultural Resource Office in June 2018. Individuals from the site include three adults of undetermined sex, one child of undetermined sex, and one infant of undetermined sex. No known individuals were identified. The 22 associated funerary objects are one chipped stone, five ceramic body sherds, six shell fragments, and 10 lithic flakes.

Determinations Made by the U.S. Army Garrison, Fort Campbell

Officials of the U.S. Army Garrison, Fort Campbell have determined that:

• Pursuant to 25 U.S.C. 3001(9), the human remains described in this notice are Native American based on morphological characteristics, archeological context, and associated funerary objects.

• Pursuant to 25 U.S.C. 3001(9), the human remains described in this notice represent the physical remains of 53 individuals of Native American ancestry.

• Pursuant to 25 U.S.C. 3001(3)(A), the 498 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission, the land from which the Native American human remains and associated funerary objects from site 40MT0018 were removed is the aboriginal land of the Cherokee Nation; Eastern Band of Cherokee Indians; and the United Keetoowah Band of Cherokee Indians in Oklahoma.

• Treaties indicate that the land from which the Native American human remains and associated funerary objects from sites 15TR0004, 40MT0004, 40MT0021, 40MT0022, and 40MT? were removed is the aboriginal land of the Cherokee Nation; Eastern Band of Cherokee Indians; and the United Keetoowah Band of Cherokee Indians in Oklahoma.

• Pursuant to 43 CFR 10.11(c)(1), the disposition of the human remains and associated funerary objects may be to the Cherokee Nation; Eastern Band of Cherokee Indians; and the United Keetoowah Band of Cherokee Indians in Oklahoma (hereafter referred to as “The Tribes”).

Additional Requestors and Disposition

Representatives of any Indian Tribe or Native Hawaiian organization not identified in this notice that wish to request transfer of control of these human remains and associated funerary objects should submit a written request with information in support of the request to Ronald Grayson, U.S. Army Garrison, Fort Campbell, Directorate of Public Works, Building 865, 16th Street, Fort Campbell, KY 42223, telephone (270) 412-8174, email ronald.i.grayson.civ@mail.mil, by May 24, 2019. After that date, if no additional requestors have come forward, transfer of control of the human remains and associated funerary objects to The Tribes may proceed.

The U.S. Army Garrison, Fort Campbell is responsible for notifying The Consulted Tribes that this notice has been published.

Dated: March 11, 2019.
Melanie O'Brien,
Manager, National NAGPRA Program.

[FR Doc. 2019-08227 Filed 4-23-19; 8:45 am]

BILLING CODE 4312-52-P